DEPARTMENT OF HOMELAND SECURITY

Coast Guard

33 CFR Part 117

[Docket No. USCG-2009-0976]

Drawbridge Operation Regulation; Delaware River, Between Tacony, PA and Palmyra, NJ

AGENCY: Coast Guard, DHS.

ACTION: Notice of temporary deviation from regulations.

SUMMARY: The Commander Fifth Coast Guard District has issued a temporary deviation from the regulations governing the operation of the Tacony-Palmyra Bridge (Route 73), across the Delaware River, mile 107.2 between the townships of Tacony, PA and Palmyra, NJ. The deviation is necessary to facilitate the resurfacing of the bridge roadway. This deviation reduces the vertical clearance of the bridge in the closed position by three feet and restricts operation of the draw span.

DATES: This deviation is effective from 9 p.m. on November 16, 2009, until 5 a.m. on December 23, 2009.

ADDRESSES: Documents mentioned in this preamble as being available in the docket are part of docket USCG-2009-0976 and are available online by going to http://www.regulations.gov, inserting USCG-2009-0976 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance Knowles, Environmental Protection Specialist, Fifth Coast Guard District; telephone 757-398-6587, e-mail Terrance.A.Knowles@uscg.mil. If you have questions on viewing the docket, call Renee V. Wright, Program Manager, Docket Operations, telephone 202-366-9826.

SUPPLEMENTARY INFORMATION: The Burlington County Bridge Commission, who owns and operates this bascule drawbridge, has requested a temporary deviation from the current operating regulations set out in 33 CFR 117.5 and 117.716(b) to facilitate the resurfacing of the bridge roadway.

The Tacony-Palmyra Bridge (Route 73) at mile 107.2, across the Delaware River, between Tacony, PA and Palmyra, NJ, has a vertical clearance in the closed position to vessels of 53 feet above mean high water (MHW). This clearance will be reduced for safety netting by approximately three feet to 50 feet above MHW.

Under this temporary deviation, the resurfacing repairs will restrict the operation of the draw span on the following dates and times:

Closed-to-navigation each day from 9 p.m. to 5 a.m., from 9 p.m. on November 16, 2009 to 5 a.m. on November 24, 2009; and from 9 p.m. on November 30, 2009 to 5 a.m. on December 23, 2009; except vessel openings will be provided with at least four hours advance notice given to the bridge operator at (856) 829-3002 or via marine radio on Channel 13. The drawbridge will open in the event of an emergency. Vessels that can pass under the bridge without a bridge opening may do so at all times. There are no alternate routes for vessels transiting this section of the Delaware River.

The Coast Guard has coordinated the restrictions with the Delaware River Pilots Association and will inform the other users of the waterways through our Local and Broadcast Notices to Mariners of the closure periods for the bridge so that vessels can arrange their transits to minimize any impact caused by the temporary deviation.

In accordance with 33 CFR 117.35(e), the drawbridge must return to its regular operating schedule immediately at the end of the designated time period. This deviation from the operating regulations is authorized under 33 CFR 117.35.

Dated: November 6, 2009.
Waverly W. Gregory, Jr.,
Chief, Bridge Administration Branch, by direction of the Commander, Fifth Coast Guard District.

[FR Doc. E9-27635 Filed 11-17-09; 8:45 am]

BILLING CODE 9110-04-P